DEPARTMENT OF TRANSPORTATION

Federal Aviation Administration

14 CFR Part 97

[Docket No. 30482; Amdt. No. 3156]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective March 7, 2006. The compliance date for each SIAP and/or Weather Takeoff Minimums is specified in the amendatory provisions.

The incorporation by reference of certain publications listed in the regulations is approved by the Director of the Federal Register as of March 7, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125); telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 24, 2006.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 13 April 2006

Galena, AK, Edward G. Pitka SR, NDB-A, Orig, CANCELLED

Sitka, AK, Sitka Rocky Gutierrez, RNAV (GPS) RWY 11, Orig

Sitka, AK, Sitka Rocky Gutierrez, NDB-A, Amdt 1

Prattville, AL, Prattville-Grouby Field, RNAV (GPS) RWY 9, Amdt 1

Prattville, AL, Prattville-Grouby Field, VOR/DME-A, Amdt 2

Springdale, AR, Springdale Muni, ILS OR LOC RWY 18, Amdt 8

Bakersfield, CA, Meadows Field, RNAV (GPS) RWY 12L, Orig

Santa Barbara, CA, Santa Barbara Muni, Takeoff Minimums and Textual DP, Amdt 7

Cortez, CO, Cortez Muni, RNAV (GPS) Y RWY 21, Orig

Cortez, CO, Cortez Muni, RNAV (GPS) Z RWY 21, Orig

Cortez, CO, Cortez Muni, RNAV (GPS) RWY 21, Orig, CANCELLED

Lamar, CO, Lamar Muni, RNAV (GPS) RWY 36, Amdt 1

Merritt Island, FL, Merritt Island, RNAV (GPS) RWY 11, Amdt 1

Merritt Island, FL, Merritt Island, Takeoff Minimums and Textual DP, Orig

Miami, FL, Kendall-Tamiami Executive, RNAV (GPS) RWY 27L, Orig

Tampa, FL, Vandenberg, RNAV (GPS) RWY 23, Orig

Tampa, FL, Vandenberg, ILS OR LOC RWY 23, Orig

Tampa, FL, Vandenberg, GPS RWY 23, Orig-E, CANCELLED

Tampa, FL, Vandenberg, LOC RWY 23, Orig, CANCELLED

Atlanta, GA, Hartsfield-Jackson Atlanta Intl, Takeoff Minimums and Textual DP, Amdt 2

Boise, ID, Boise Air Terminal/Gowen Fld, ILS OR LOC RWY 10R, Amdt 9, ILS RWY 10R (CAT II)

Chicago, IL, Chicago-Midway Intl, RNAV (GPS) Z RWY 13C, Orig-A

Chicago, IL, Chicago-Midway Intl, RNAV (RNP) Y RWY 13C, Orig

Chicago/Romeoville, IL, Lewis University, LOC RWY 2, Orig

Columbus, IN, Columbus Muni, RNAV (GPS) RWY 5, Orig

Columbus, IN, Columbus Muni, RNAV (GPS) RWY 14, Orig

Columbus, IN, Columbus Muni, RNAV (GPS) RWY 23, Orig

Columbus, IN, Columbus Muni, RNAV (GPS) RWY 32, Orig

Columbus, IN, Columbus Muni, NDB RWY 23, Amdt 11

Fort Wayne, IN, Fort Wayne International, RNAV (GPS) RWY 23, Amdt 1

Olathe, KS, New Century Aircenter, RNAV (GPS) RWY 18, Amdt 2

Olathe, KS, New Century Aircenter, RNAV (GPS) RWY 36, Amdt 2

Topeka, KS, Forbes Field, RNAV (GPS) RWY 13, Orig

Topeka, KS, Forbes Field, RNAV (GPS) RWY 31, Orig

Topeka, KS, Forbes Field, GPS RWY 13, Orig, CANCELLED

Topeka, KS, Forbes Field, GPS RWY 31, Orig, CANCELLED

Mexico, MO, Mexico Memorial, RNAV (GPS) RWY 18, Orig, CANCELLED

Mexico, MO, Mexico Memorial, RNAV (GPS) RWY 36, Orig, CANCELLED

St Louis, MO, Lambert-St Louis Intl, ILS OR LOC RWY 29, Orig

St Louis, MO, Lambert-St Louis Intl, ILS OR LOC RWY 11, ILS RWY 11 (CAT II), ILS RWY 11 (CAT III), Orig

St Louis, MO, Lambert-St Louis Intl, ILS OR LOC RWY 12L, ILS RWY 12L (CAT II), ILS RWY 12L (CAT III), Amdt 5

St Louis, MO, Lambert-St Louis Intl, ILS PRM RWY 11, ILS PRM RWY 11 (CAT II), ILS PRM RWY 11 (CAT III), Orig (Simultaneous Close Parallel)

St Louis, MO, Lambert-St Louis Intl, ILS PRM RWY 12L, ILS PRM RWY 12L (CAT II), ILS PRM RWY 12L (CAT III), Orig (Simultaneous Close Parallel)

St Louis, MO, Lambert-St Louis Intl, ILS PRM RWY 29, Orig (Simultaneous Close Parallel)

St Louis, MO, Lambert-St Louis Intl, Takeoff Minimums and Textual DP, Amdt 1

Butte, MT, Bert Mooney, RNAV (GPS) RWY 15, Amdt 1

Bismarck, ND, Bismarck Muni, RNAV (GPS) RWY 3, Amdt 1

Bismarck, ND, Bismarck Muni, RNAV (GPS) RWY 31, Orig

Bismarck, ND, Bismarck Muni, VOR-A, Amdt 20

Bismarck, ND, Bismarck Muni, NDB RWY 31, Amdt 31

Newark, NJ, Newark Liberty Intl, RNAV (GPS) Z RWY 4R, Amdt 1A

Newark, NJ, Newark Liberty Intl, RNAV (GPS) Z RWY 22L, Amdt 1A

Angel Fire, NM, Angel Fire, RNAV (GPS) RWY 17, Amdt 1A

Gallup, NM, Gallup Municipal, RNAV (GPS) RWY 6, Amdt 1

Las Vegas, NM, Las Vegas Muni, RNAV (GPS) RWY 2, Orig-A

Las Vegas, NM, Las Vegas Muni, RNAV (GPS) RWY 20, Orig-A

Las Vegas, NM, Las Vegas Muni, RNAV (GPS) RWY 32, Orig-A

Las Vegas, NM, Las Vegas Muni, VOR RWY 2, Amdt 11A

Las Vegas, NM, Las Vegas Muni, VOR RWY 20, Amdt 6A

Las Vegas, NM, Las Vegas Muni, Takeoff Minimums and Textual DP, Amdt 1

Buffalo, NY, Buffalo Niagara Intl, ILS OR LOC/DME RWY 32, Orig-A

Buffalo, NY, Buffalo Niagara Intl, RNAV (GPS) RWY 32, Amdt 1

Oklahoma City, OK, Wiley Post, Takeoff Minimums and Textual DP, Amdt 3

Eugene, OR, Mahlon Sweet Field, RNAV (GPS) RWY 34R, Orig

Eugene, OR, Mahlon Sweet Field, RNAV (GPS) RWY 34L, Orig

Eugene, OR, Mahlon Sweet Field, GPS RWY 34, Orig-C, CANCELLED

Roseburg, OR, Roseburg Regional, Takeoff Minimums and Textual DP, Amdt 5

Mifflintown, PA, Mifflintown, RNAV (GPS) RWY 26, Orig

Mifflintown, PA, Mifflintown, Takeoff Minimums and Textual DP, Orig

Corpus Christi, TX, Corpus Christi Intl, RNAV (GPS) RWY 31, Amdt 1

Houston, TX, George Bush Intercontinental/Houston, RNAV (GPS) RWY 15R, Amdt 1

Houston, TX, George Bush Intercontinental/Houston, ILS OR LOC RWY 15R, Amdt 1

Logan, UT, Logan-Cache, RNAV (GPS) RWY 35, Amdt 2

Moses Lake, WA, Grant County Intl, RNAV (GPS) RWY 32R, Amdt 1

Oak Harbor, WA, Wes Lupien, RNAV (GPS) RWY 7, Orig

Oak Harbor, WA, Wes Lupien, Takeoff Minimums and Textual DP, Orig

Renton, WA, Renton Muni, RNAV (GPS) RWY 15, Amdt 1

Renton, WA, Renton Muni, NDB RWY 15, Amdt 4

Buckhannon, WV, Upshur County Regional, VOR-A, Amdt 1

Buckhannon, WV, Upshur County Regional, RNAV (GPS) RWY 11, Amdt 1

Buckhannon, WV, Upshur County Regional, RNAV (GPS) RWY 29, Amdt 1

Cody, WY, Yellowstone Regional, RNAV (GPS) RWY 22, Amdt 1

Jackson, WY, Jackson Hole, RNAV (GPS) RWY 1, Amdt 1

Riverton, WY, Riverton Regional, RNAV (GPS) RWY 10, Orig

Riverton, WY, Riverton Regional, GPS RWY 10, Orig-A, CANCELLED

* * * Effective 8 June 2006

Kodiak, AK, Kodiak, NDB RWY 25, Orig, CANCELLED

Beverly, MA, Beverly Muni, NDB-A, Amdt 13, CANCELLED

Pittsfield, MA, Pittsfield Muni, NDB RWY 26, Amdt 4A, CANCELLED

Sanford, ME, Sanford Regional, NDB RWY 7, Amdt 1B, CANCELLED

Waterville, ME, Waterville Robert Lafleur, NDB RWY 5, Amdt 1, CANCELLED

Manchester, NH, Manchester, VOR/DME RNAV RWY 6, Amdt4A, CANCELLED

[FR Doc. 06-2005 Filed 3-6-06; 8:45 am]

BILLING CODE 4910-13-P